DEPARTMENT OF AGRICULTURE

Animal and Plant Health Inspection Service

[Docket No. APHIS-2014-0031]

Secretary's Advisory Committee on Animal Health; Meeting

AGENCY: Animal and Plant Health Inspection Service, USDA.

ACTION: Notice of meeting.

SUMMARY: This is a notice to inform the public of an upcoming meeting of the Secretary's Advisory Committee on Animal Health. The meeting is being organized by the Animal and Plant Health Inspection Service to discuss matters of animal health.

DATES: The meeting will be held on June 18 and 19, 2014, from 9 a.m. to 5 p.m. each day.

ADDRESSES: The meeting will be held at the United States Access Board Conference Room, 1331 F Street NW., Suite 800, Washington, DC 20004.

FOR FURTHER INFORMATION CONTACT: Mrs. R.J. Cabrera, Designated Federal Officer, VS, APHIS, 4700 River Road Unit 34, Riverdale, MD 20737.

SUPPLEMENTARY INFORMATION: The Secretary's Advisory Committee on Animal Health (the Committee) advises the Secretary of Agriculture on matters of animal health, including means to prevent, conduct surveillance on, monitor, control, or eradicate animal diseases of national importance. In doing so, the Committee will consider public health, conservation of natural resources, and the stability of livestock economies.

Tentative topics for discussion at the upcoming meeting include:

• United States and U.S. Department of Agriculture antimicrobial resistance efforts.

• Animal and Plant Health Inspection Service (APHIS) nonregulatory approaches.

• Filling gaps in foreign animal disease (FAD)/emerging pathogen preparedness.

• Emergency management and assessing foot-and-mouth disease preparedness.

• Animal disease traceability follow-up: Progress and challenges with implementation.

• Trade/regionalization review of the United States and Canada Regulatory Cooperation Council (RCC) bilateral recognition of zoning for FADs (RCC Action Plan and the FAD zoning work plan).

APHIS, which is organizing the meeting, asks that those planning to attend the meeting inform APHIS by registering in advance. To register, visit the Committee's Web site at http://www.aphis.usda.gov/animalhealth/sacah/ and click on “Register for a Meeting.” Attendees should be prepared to provide picture identification and sign the visitor log at the lobby concierge before proceeding to the United States Access Board conference room. Persons attending meetings at the Access Board are asked to refrain from using perfume, cologne, and other fragrances (see http://www.access-board.gov/the-board/policies/fragrance-free-environment for more information).

Other Public Participation

Members of the public may also join the meeting via teleconference in “listen-only” mode. Participants who wish to listen in on the teleconference may do so by dialing 1-800-619-4303, followed by a public passcode, 9564942.

This notice of the meeting agenda is given pursuant to section 10 of the Federal Advisory Committee Act (5 U.S.C. App. 2).

Done in Washington, DC, this 12th day of May 2014.
Kevin Shea,
Administrator, Animal and Plant Health Inspection Service.

[FR Doc. 2014-11275 Filed 5-15-14; 8:45 am]

BILLING CODE 3410-34-P